DEPARTMENT OF ENERGY

Federal Energy Regulatory Commission

[Project No. 14985-000]

Cherokee Rivers Company, LLC; Notice of Meeting

a. Project Name and Number: Lower Coosawattee Hydroelectric Project P-14985-000.

b. Date and Time of Meeting: November 8, 2021; 4:00 p.m.-5:00 p.m. Eastern Time.

c. FERC Contact: Dustin Wilson, 202-502-6528, dustin.wilson@ferc.gov.

d. Purpose of Meeting: To discuss the proposed Lower Coosawattee Hydroelectric Project.

e. All local, state, and federal agencies, Indian tribes, and other interested parties are invited to attend. Discussion will be limited to the Lower Coosawattee Hydroelectric Project, P-14985. Please email the FERC contact noted above by November 4, 2021, to receive specific instructions on how to attend. The meeting will be held remotely using Microsoft Teams. This notice is issued and published in accordance with 18 CFR 2.1.

Dated: October 20, 2021.
Kimberly D. Bose,
Secretary.

[FR Doc. 2021-23659 Filed 10-29-21; 8:45 am]

BILLING CODE 6717-01-P